DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: SSA Supplement on Retirement, Pensions, and Related Content.

OMB Control Number: None.

Form Number(s): SIPP-SSA(L1)2014.

Type of Request: New collection.

Number of Respondents: 73,500.

Average Hours per Response: 30 minutes.

Burden Hours: 36,750.

Needs and Uses: The U.S. Census Bureau requests authorization from the Office of Management and Budget (OMB) to conduct the SSA Supplement on Retirement, Pensions, and Related Content (SSA Supplement) for the Social Security Administration (SSA). The Census Bureau and the SSA entered into an Interagency Agreement (IAA) in May 2010 that states the Census Bureau will conduct for the SSA a survey to collect data on retirement, pensions, marital history, and disabilities as a supplement to the 2014 Survey of Income and Program Participation (SIPP) Panel, and process the data. That original agreement was renewed each year by IAA modifications from 2011 to 2014.

The data topics included in the SSA Supplement were previously collected in topical modules in the former SIPP Panels. These data were excluded from the 2014 SIPP data collection design as they were not required in each wave of data collection, and their elimination from the core interview reduced recurring respondent burden during the revised annual SIPP interview. To continue to have data for incorporation into their programmatic evaluations, the SSA has requested that the Census Bureau conduct the SSA Supplement beginning in September 2014. SSA specifically requested that the interview follow-up interviewed Wave 1 SIPP respondents, necessitating it's fielding after the completion of the 2014 SIPP Wave 1 interview. This differs from the topical module concept in previous SIPP panels where the topical modules were administered in conjunction with the core SIPP interview. The SSA Supplement will be conducted about 4 months following the completion of the 2014 SIPP Panel Wave 1 data collection. The time from the 2014 SIPP Wave 1 interview to the SSA Supplement interview may be as long as 8 months or as short as 4 months. The SSA Supplement is designed to occur only once during the 2014 SIPP Panel.

The main objective of the SSA Supplement is to provide the SSA with detailed information about personal retirement plans (e.g., Individual Retirement Accounts (IRAs), Keogh accounts, 401k, 403b, 503b, and thrift plans); participation in pension and retirement plans provided by an employer or business; current and previous marital status; self-designation of health status; work disability; and adult and child disability. These data are collected from SIPP interviewed Wave 1 respondents, and along with data collected in the 2014 Panel SIPP interviews, will allow the SSA to create a picture of the economic and social situation of people with disabilities and/or those in or approaching retirement. The SSA also needs to estimate those legally eligible for Old Age Survivors and Disability Insurance (OASDI) divorce benefits, that is, 120 months of marriage before divorce to an entitled worker. This information assists the SSA in making informed decisions about policies and programs that will affect older and/or disabled Americans.

The SSA bases two of its major policy micro-simulations on the SIPP: (1) Modeling Income in the Near Term (MINT) for evaluating Social Security reform; and, (2) the Financial Eligibility Model (FEM) for evaluating Supplemental Security Income (SSI), Qualified Medicare Beneficiary, and Medicare Part-D Low Income Subsidy (LIS) programs.

MINT projects the economic and demographic condition of older Americans based on data developed by SSA and the Census Bureau. MINT is continually updated using data from current SIPP panels. SSA uses MINT to simulate the impact of legislative changes to OASDI. The MINT estimates are relied upon by the Office of Management and Budget, the Council of Economic Advisors, the Congress, the Governmental Accountability Office, and the SSA. MINT is also used to estimate economic well-being indicators of older Americans in future years. Of specific importance to the SSA is the impact of the legislative changes on the economic well-being of future beneficiaries. The SSA also assesses people's ability to save for retirement (including the behavior of people putting money into and taking money out of retirement accounts), marital histories of the population, and eligibility for OASDI survivor and retirement benefits.

The FEM assists policy makers in evaluating the effectiveness of the SSI program. Information from SIPP is matched to SSA administrative data to model SSI eligibility and participation and to study eligibility for Medicare buy-in programs and the LIS under Medicare Part-D. Information on disability and work limitations are used to estimate whether an individual meets the disability criteria for SSI eligibility and if the criteria need to be modified.

Since the 1996 SIPP panel, the SSA has used data collected by the SIPP for policy evaluation research and the modification of government programs. Prior to the 2014 SIPP redesign, the data came from core questions asked each Wave and from intermittent topical supplements. As part of an effort to streamline the annual data collection in the SIPP instrument, the redesigned SIPP does not include some topical data previously used by the SSA for the MINT and FEM models.

The data collected in the Supplement will allow the SSA to do a comparative analysis of the effect of the economic downturn and make adjustments to their MINT and FEM models if substantial differences in the data are identified. The SSA cannot obtain these data from any other source.

The SSA Supplement is the first externally sponsored survey to take advantage of the opportunity to integrate with the new SIPP annual interviewing design. The value of integrating the SSA Supplement content with the longitudinal SIPP data collection is a benefit to both programs. The SSA Supplement data will be matchable to SIPP respondents and will be released as public use data. The details about the population's savings behavior and their disability status coupled with four-year longitudinal data for the population will be an important resource extending the utility of both data collections and will support stakeholders beyond the limits of the partner agencies. The power of the new SIPP program to support interagency projects like this is an important feature in the SIPP program's redesign.

Affected Public: Individuals or households.

Frequency: One time.

Respondent's Obligation: Voluntary.

Legal Authority: The SSA Supplement is authorized by Title 13, United States Code, Section 8(b) and by Section 1110 [42 U.S.C. 1310] (a)(1) of the Social Security Act.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: June 6, 2014.
Glenna Mickelson,
Management Analyst, Office of the Chief Information Officer.

[FR Doc. 2014-13671 Filed 6-11-14; 8:45 am]

BILLING CODE 3510-07-P